DEPARTMENT OF AGRICULTURE

Forest Service

RIN 0596-AC73

Burned Area Emergency Response, Forest Service

AGENCY: Forest Service, USDA.

ACTION: Notice of interim directive; Correction and extension of comment period.

SUMMARY: The Forest Service is correcting a notice of interim directive that appeared in the Federal Register of June 6, 2013, (78 FR 34031). This correction adds the Web site that was inadvertently omitted from the interim directive which is necessary to allow the public more detailed information and time to review the Burned Area Emergency Response revisions. This correction lists the Web site for the interim directive and the current Forest Service Manual in the Supplementary Information section of this notice and extends the comment period by 30 days.

DATES: Comments must be received in writing by August 23, 2013.

ADDRESSES: Submit comments electronically through the internet Web site at http:/www.regulations.gov or mail written comments to U.S. Forest Service, Attn: Director, Watershed, Fish, Wildlife, Air and Rare Plants, Mail Stop 1121, 1400 Independence Ave. SW., Washington, DC 20250-1121. If comments are sent by electronic means, please do not send duplicate comments via regular mail.

All comments, including names and addresses when provided, will be place in the record and are available for public inspection and copying. Persons wishing to inspect the comments received on this interim directive may do so in the Office of the Director, Watershed, Fish, Wildlife, Air and Rare Plants, U.S. Forest Service, 1601 N. Kent Street, 5th Floor, Arlington, VA 22209, between 8:30 a.m. and 4:00 p.m. on business days. Those wishing to inspect comments are encouraged to call ahead at 202-205-1167 to facilitate access to the building.

FOR FURTHER INFORMATION CONTACT: Penny Luehring, Watershed, Fish Wildlife, Air and Rare Plants Staff, 333 Broadway SE., Albuquerque, NM 87102, 505-842-3141 or pluehring@fs.fed.us. Individuals who use telecommunication devices for the deaf (TDD) may call the Federal Information Relay Service (FIRS) at 1-800-877-8339 between 8:00 a.m. and 8:00 p.m., Eastern Standard Time, Monday through Friday.

SUPPLEMENTARY INFORMATION: In the Federal Register of June 6, 2013, in FR Doc. 2013-13459, on page 34031, column 3, after the first paragraph and before the heading “Summary of Revisions” add the following: http://www.fs.fed.us/cgi-bin/Directives/get_dirs/fsm?2500. Once this Web page has opened, click on “wo id 2520-2013-1.doc” and “2520.doc”.

Dated: July 17, 2013.
Tim DeCosta,
Chief of Staff.

[FR Doc. 2013-17710 Filed 7-23-13; 8:45 am]

BILLING CODE 3410-11-P